DEPARTMENT OF JUSTICE

[OMB Number 1121-NEW]

Agency Information Collection Activities; Proposed Collection Comments Requested; New Collection: 2019 Census of Tribal Law Enforcement Agencies (CTLEA)

AGENCY: Bureau of Justice Statistics, Department of Justice.

ACTION: 30-Day notice.

SUMMARY: The Department of Justice (DOJ), Office of Justice Programs, Bureau of Justice Statistics (BJS), will be submitting the following information collection request to the Office of Management and Budget (OMB) for review and approval in accordance with the Paperwork Reduction Act of 1995.

DATES: Comments are encouraged and will be accepted for 30 days until June 3, 2019.

FOR FURTHER INFORMATION CONTACT: If you have additional comments especially on the estimated public burden or associated response time, suggestions, or need a copy of the proposed information collection instrument with instructions or additional information, please contact Steven W. Perry, Statistician, Institutional Research & Special Projects Unit, Bureau of Justice Statistics, 810 Seventh Street NW, Washington, DC 20531 (email: Steven.W.Perry@usdoj.gov; telephone: 202-307-0777).

SUPPLEMENTARY INFORMATION: Written comments and suggestions from the public and affected agencies concerning the proposed collection of information are encouraged. Your comments should address one or more of the following four points:

—Evaluate whether the proposed collection of information is necessary for the proper performance of the functions of BJS, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: 2019 Census of Tribal Law Enforcement Agencies (CTLEA).

(3) The agency form number, if any, and the applicable component of the Department sponsoring the collection: The applicable form number(s) for this collection is CTLEA and CTLEA-BIA. The applicable component within the Department of Justice is the Bureau of Justice Statistics, in the Office of Justice Programs.

(4) Affected public who will be asked or required to respond, as well as a brief abstract: CTLEA respondents will be the chief law enforcement officer or their designee reporting on behalf of their respective agency. This information collection is a census of the 308 tribal law enforcement agencies operating in Indian country or serving tribal lands. The eligible respondent universe includes: (1) Tribal police departments, tribal conservation and wild life enforcement agencies, Bureau of Indian Affairs (BIA) police departments, tribal university and college police, and the Alaska State Police reporting on behalf of the village public safety officers (VPSO) program coordinated and funded through the state. The CTLEA will be conducted for a four month period from September through December 2019.

Table 1—CTLEA Universe of Known Tribal Law Enforcement Agencies, 2018
Type of agency | Count | Percent of universe
Universe | 308 | 100
Tribal Law Enforcement | 229 | 74
Conservation/Wildlife enforcement agencies | 45 | 15
Bureau of Indian Affairs Police | 27 | 9
Tribal university/college campus police | 6 | 1.9
Alaska State Police | 1 | 0.3

Enacted in 2010, the Tribal Law and Order Act (TLOA) requires BJS to (1) establish and implement a tribal data collection system, (2) consult with Indian tribes to establish and implement this data collection system, and (3) annually report to Congress the data collected and analyzed in accordance with the act (Pub. L. 111-211, 124 Stat. 2258, § 251(b)). Indian country includes federally recognized reservations, tribal communities, and identified trust lands. Criminal jurisdiction in Indian country varies by type of crime committed, whether the offender or victim is a tribal member, and the state in which the offense occurred. This information collection helps BJS fulfill this mandate and meet the agency's mission.

(5) An estimate of the total number of respondents and the amount of time estimated for an average respondent to respond: An estimated 308 tribal law enforcement agencies—including tribal operated police departments (229), conservation/wildlife enforcement agencies (44), Bureau of Indian Affairs Police agencies (27), tribal university or college police (6) and the Alaska State Police (1)—that serve or work on tribal lands will be asked to take part in the CTLEA. Based on the survey development and cognitive testing activities, an average of 30 minutes per respondent is needed to complete the CTLEA and CTLEA-BIA forms per respondent. BJS anticipates that nearly all of the approximately 308 respondents will fully complete the questionnaire.

(6) An estimate of the total public burden (in hours) associated with the collection: The total estimated public burden associated with this collection is 192.5 hours. It is estimated that respondents will take 30 minutes to complete a questionnaire (308 × 30 = 154 hours) and additional verification or validation of responses for about 50% of the respondents will require 15 minutes (154 × 15 minutes = 38.5 hours). The total burden hours for CTLEA respondent data collection:

Table 2—2018 CTLEA Estimated Respondent Burden
Total number of respondents | Time to complete CTLEA-18 |  | Time to complete nonresponse follow-up |  | Total CTLEA & CTLEA-BIA respondent burden
(a) N = 308 | 30 minutes × |  | 15 minutes × |
(b) Non-response follow-up estimated at 50% of CTLEA universe, n = 154 | N = 308 | + | n = 154 | = | 192.5 hours.
| 154 hours |  | 38.5 hours

If additional information is required contact: Melody Braswell, Department Clearance Officer, United States Department of Justice, Justice Management Division, Policy and Planning Staff, Two Constitution Square, 145 N Street NE, 3E.405A, Washington, DC 20530.

Dated: April 29, 2019.
Melody Braswell,
Department Clearance Officer for PRA, U.S. Department of Justice.

[FR Doc. 2019-08925 Filed 5-1-19; 8:45 am]

BILLING CODE 4410-18-P